BUREAU OF CONSUMER FINANCIAL PROTECTION

[Docket No. CFPB-2020-0018]

Agency Information Collection Activities: Comment Request

AGENCY: Bureau of Consumer Financial Protection.

ACTION: Notice and request for comment.

SUMMARY: In accordance with the Paperwork Reduction Act of 1995 (PRA), the Bureau of Consumer Financial Protection (Bureau) is publishing this notice seeking comment on a Generic Information Collection titled, “Account Level Data Collection from PACE Program Administrators” under the Generic Information Collection Plan titled, “Generic Information Collection Plan for Information on Compliance Costs and Other Effects of Regulations” prior to requesting the Office of Management and Budget's (OMB's) approval of this collection.

DATES: Written comments are encouraged and must be received on or before July 10, 2020 to be assured of consideration.

ADDRESSES: You may submit comments, identified by the title of the information collection, OMB Control Number (see below), and docket number (see above), by any of the following methods:

• Electronic: Go to http://www.regulations.gov. Follow the instructions for submitting comments.

• Email: PRA_Comments@cfpb.gov. Include Docket No. CFPB-2020-0018 in the subject line of the message.

• Mail/Hand Delivery/Courier: Comment intake, Bureau of Consumer Financial Protection (Attention: PRA Office), 1700 G Street NW, Washington, DC 20552.

Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Account Level Data Collection from PACE Program Administrators.

OMB Control Number: 3170-0032.

Type of Review: Request for approval of a Generic Information Collection under an existing Generic Information Collection Plan.

Affected Public: Private and Public sector PACE loan providers.

Estimated Number of Respondents: 8.

Estimated Total Annual Burden Hours: 320.

Abstract: Section 307 of the Economic Growth, Regulatory Relief, and Consumer Protection Act mandates that the Bureau prescribe certain regulations relating to Property Assessed Clean Energy (PACE) financing. In order to better understand the PACE financing market and the unique nature of PACE financing, the Bureau issued an Advance Notice of Proposed Rulemaking on March 4, 2019. To further inform the development of the Bureau's proposed PACE rulemaking, the Bureau is requesting that PACE providers respond to a voluntary request for information relating to PACE applications and assessments.

Request for Comments: The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Note that although the Bureau is requesting comments at this time, the Bureau will not proceed with the collection or request any responses until such time as the Bureau determines it will not impose an undue burden on respondents as they respond to the COVID-19 pandemic. Comments submitted in response to this notice will be submitted to OMB as part of its review of this request. All comments will become a matter of public record.

Dated: June 4, 2020.
Darrin King,
Paperwork Reduction Act Officer, Bureau of Consumer Financial Protection.

[FR Doc. 2020-12508 Filed 6-9-20; 8:45 am]

BILLING CODE 4810-AM-P